DEPARTMENT OF COMMERCE

Submission for OMB Review; Comment Request

The Department of Commerce has submitted to the Office of Management and Budget (OMB) for clearance the following proposal for collection of information under the provisions of the Paperwork Reduction Act (44 U.S.C. chapter 35).

Agency: National Telecommunications and Information Administration (NTIA).

Title: Performance Reporting System (PRS) for the Technology Opportunities Program (TOP).

Form Number(s): None.

OMB Approval Number: 0660-0015.

Type of Request: Regular Submission.

Burden Hours: 1492.

Number of Respondents: 50.

Average Hours Per Response: Start-Up Documentation—20 hours; Progress Reports—16 hours; Annual Report—0.5 hours; Final Closeout Report—20 hours.

Needs and Uses: The purpose of the Technology Opportunities Program (TOP), formerly the Telecommunications and Information Infrastructure Assistance Program (TIIAP), is to promote the widespread and efficient use of advanced telecommunications services in the public and non-profit sectors to serve America's communities through the award of matching grants.

Affected Public: State, local, or tribal government, and not-for-profit institutions.

Frequency: Quarterly, annually, and final report.

Respondent's Obligation: Required to obtain or retain benefits.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov.

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1032 Filed 1-15-02; 8:45 am]

BILLING CODE 3510-60-P